DEPARTMENT OF LABOR

Employment and Training Administration

[TA-W-59,517]

Advanced Electronics, Inc., Boston, MA; Notice of Negative Determination on Remand

On October 22, 2007, the U.S. Court of International Trade (USCIT) granted the Department of Labor's request for voluntary remand to conduct further investigation in Former Employees of Advanced Electronics, Inc. v. United States Secretary of Labor (Court No. 06-00337).

On July 18, 2006, the Department of Labor (Department) issued a Negative Determination regarding eligibility to apply for Trade Adjustment Assistance (TAA) and Alternative Trade Adjustment Assistance (ATAA) applicable to workers and former workers of Advanced Electronics, Inc., Boston, Massachusetts (subject firm). AR 60. The Department's Notice of determination was published in the Federal Register on August 4, 2006 (71 FR 44320). AR 67.

The petition identified the article produced by the subject workers as “electronics.” AR 2. A letter (dated May 8, 2006) identified the subject workers as engaged in the production of “subassembly' printed circuit boards” and alleged that increased imports of that article caused the subject workers' separations. AR 28.

The negative determination stated that the subject workers “were engaged in the production of printed circuit boards (subassembly)” and that the Department's investigation revealed that “the subject firm did not import printed circuit boards” and did not transfer production abroad during the relevant period. The Department's survey of the subject firm's major declining customers regarding their purchases in 2004, 2005, January through May 2005, and January through May 2006 of “printed circuit board (assembly)” revealed no imports during the period under investigation, and that a portion of the decline in company sales is attributed to declining purchases from a foreign customer during the period under investigation. AR 61.

Administrative reconsideration was not requested by any of the parties pursuant to 29 CFR section 90.18.

The Department requested voluntary remand to determine whether, during the relevant period, any of the foreign customer's facilities located in the United States received printed circuit boards produced by the subject firm and, if so, whether the facility(s) had imported articles like or directly competitive with the printed circuit board assemblies produced by the subject firm.

During the remand investigation, the Department contacted the former subject firm official who completed the Business Confidential Data Request form, SAR 1-5, and the former subject firm employee who handled the foreign customer's contract for information about where the articles were shipped. SAR 7. The Department confirmed that the subject firm sent the articles purchased by the foreign customer to a facility located outside of the United States and obtained the foreign address to where the articles were shipped. SAR 3, 5, 7.

Because the subject firm did not send printed circuit boards to a domestic facility of the foreign customer, the Department determines that the foreign customer did not import articles like or directly competitive with the printed circuit boards produced by the subject firm, and affirms the negative determination.

In order for the Department to issue a certification of eligibility to apply for ATAA, the subject worker group must be certified eligible to apply for TAA. Since the subject workers are not eligible to apply for TAA, the workers cannot be certified eligible for ATAA.

Conclusion

After careful reconsideration, I affirm the original notice of negative determination of eligibility to apply for worker adjustment assistance for workers and former workers of Advanced Electronics, Inc., Boston, Massachusetts.

Signed at Washington, DC, this 19th day of December, 2007.
Elliott S. Kushner,
Certifying Officer, Division of Trade Adjustment Assistance.

[FR Doc. E7-25362 Filed 12-28-07; 8:45 am]

BILLING CODE 4510-FN-P